FEDERAL COMMUNICATIONS COMMISSION

Notice of Public Information Collection(s) Being Reviewed by the Federal Communications Commission, Comments Requested

November 8, 2007.

SUMMARY: The Federal Communications Commission, as part of its continuing effort to reduce paperwork burden, invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 14, 2008. If you anticipate that you will be submitting comments, but find it difficult to do so within the period of time allowed by this notice, you should advise the contacts listed below as soon as possible.

ADDRESSES: You may submit all PRA comments by e-mail or U.S. mail. To submit your comments by e-mail, send them to PRA@fcc.gov. To submit your comments by U.S. mail, send them to Jerry Cowden, Federal Communications Commission, Room 1-B135, 445 12th Street, SW., Washington, DC 20554.

FOR FURTHER INFORMATION CONTACT: For additional information about the information collection(s) contact Jerry Cowden via e-mail at PRA@fcc.gov or at 202-418-0447.

SUPPLEMENTARY INFORMATION: OMB Control Number: None.

Title: Information Collection regarding Emergency Backup Power for Communications Assets as set forth in the Commission's rules (47 CFR 12.2).

Form No.: Not applicable.

Type of Review: New collection.

Respondents: Business or other for-profit.

Number of Respondents: 73 respondents; 93 responses.

Estimated Time per Response: 70.32 hours (average).

Frequency of Response: One-time reporting.

Obligation to Respond: Mandatory.

Total Annual Burden: 6,540 hours.

Total Annual Cost: None.

Privacy Act Impact Assessment: This information collection does not affect individuals or households, and therefore a privacy impact assessment is not required.

Nature and Extent of Confidentiality: All reports and plans required by Section 12.2 of the Commission's rules will be automatically afforded confidentiality because the information in these reports and plans is sensitive for both national security and/or commercial reasons.

Needs and Uses: The Commission, in order to help fulfill its statutory obligation to make wire and radio communications services available to all people in the United States for the purpose of the national defense and promoting safety of life and property, adopted an Order (FCC 07-107) that includes an emergency backup power rule (section 12.2). This rule, as modified in an Order on Reconsideration (FCC 07-177) obligates certain specified local exchange carriers (LECs) and commercial mobile radio service (CMRS) providers to file a report that enumerates whether the carriers meet the emergency backup power requirement for certain assets specified by the rule.

Specifically, Section 12.2(c) requires LECs and CMRS providers to file reports with the Commission that identify the following information: (1) Each asset that was designed to comply with the applicable backup power requirement; (2) each asset where compliance is precluded due to risk to safety or life or health; (3) each asset where compliance is precluded by private legal obligation or agreement; (4) each asset where compliance is precluded by Federal, state, tribal or local law; and (5) each asset that was designed with less than the required emergency backup power capacity and that is not precluded from compliance by risk to safety of life or health, private legal obligation or agreement, or Federal, state, tribal or local law. LECs and CMRS providers must file these reports within six months of the effective date of this requirement, which is the date of Federal Register notice announcing OMB approval of the information collection contained in section 12.2 of the Commission's rules. LECs and CMRS providers must include a description of facts supporting the basis of the LECs or CMRS provider's claim of preclusion from compliance based on risk to safety of life or health, private legal obligation or agreement, or Federal, state, tribal or local law.

Additionally, LECs and CMRS providers identifying assets designed with less than the emergency backup power capacity required in section 12.2(a) and not otherwise precluded from compliance for one of the three reasons identified in section 12.2(b) must comply with the backup power requirement or file, within 12 months from the effective date of section 12.2, a certified emergency backup power compliance plan that is subject to Commission review. The emergency backup power compliance plan must certify and describe how, in the event of a commercial power failure, the LEC or CMRS provider will provide emergency backup power to 100 percent of the area covered by any non-compliant asset, relying on on-site and/or portable backup power sources or other sources as appropriate. This emergency backup power must be sufficient for service coverage as follows: A minimum of 24 hours for assets inside central offices and eight hours for other assets such as cell sites, remote switches, and digital loop carrier system remote terminals.

Federal Communications Commission.
Marlene H. Dortch,
Secretary.

[FR Doc. 07-5697 Filed 11-14-07; 8:45 am]

BILLING CODE 6712-01-P